DEPARTMENT OF DEFENSE

Office of the Secretary

Higher Initial Maximum Uniform Allowance Rate

AGENCY: Office of the Under Secretary of Defense (Personnel and Readiness), Department of Defense.

ACTION: Notice.

SUMMARY: This is the final notice that the Department of Defense (DoD), is establishing a higher initial maximum uniform allowance to procure and issue uniform items for uniformed security guard personnel. This action is pursuant to the authority granted to the DoD by section 591.104 of title 5, Code of Federal Regulations (CFR), which states that an agency may establish one or more initial maximum uniform allowance rates greater than the Governmentwide maximum uniform allowance rate established under 5 CFR 591.103.

DATES: Effective Date: July 31, 2016.

FOR FURTHER INFORMATION CONTACT: Ms. Cheryl Opere, 571-372-1682.

SUPPLEMENTARY INFORMATION: The DoD is implementing a higher initial maximum uniform allowance to procure and issue uniform items for uniformed security guard personnel. This is being established in accordance with 5 CFR 591.104, which states that an agency may establish one or more initial maximum uniform allowance rates greater than the Governmentwide maximum uniform allowance rate established under 5 CFR 591.103. The current $800.00 limit has become inadequate to maintain the uniform standards and professional image expected of Federal uniformed security guards. The uniform items for uniformed security guard personnel include the following items or similar items such as: Winter gloves; battle dress uniform pants and blouses; cold weather and light weight duty jackets; duty sweaters; dress duty trousers; short sleeve summer and long sleeve winter duty dress shirts; jacket and pants rain gear; felt hats; duty caps; high gloss duty shoes; leather duty boots; duty ties; heavy duty battle dress uniform duty coats; cloth uniform insignia patches and cloth uniform badges. The average total uniform cost for the listed items is $1,800.00. Based on these current costs, the DoD is increasing the initial maximum uniform allowance for uniformed security guards to $1,800.00. The number of DoD uniformed security guard personnel affected by this change would be approximately 3,400 employees.

On Thursday, April 7, 2016 (81 FR 20375), the DoD published a notice titled “Higher Initial Maximum Uniform Allowance Rate.” The 30-day public comment period ended on May 9, 2016. At the close of the public comment period, no public comments were received. Since no comments were received by the due date, the DoD is proceeding with the establishment of the higher initial maximum uniform allowance rate for uniformed security guard personnel. The effective date of this higher initial maximum uniform allowance rate is July 31, 2016.

Dated: July 22, 2016.
Aaron Siegel,
Alternate OSD Federal Register Liaison Officer, Department of Defense.

[FR Doc. 2016-17791 Filed 7-26-16; 8:45 am]

BILLING CODE 5001-06-P